DEPARTMENT OF VETERANS AFFAIRS

Veterans' Advisory Committee on Education; Notice of Meeting

The Department of Veterans Affairs (VA) gives notice under Public Law 92-463 (Federal Advisory Committee Act) that the Veterans' Advisory Committee on Education will meet on Tuesday, July 29, 2003, from 7 p.m. to 8:30 p.m.; Wednesday, July 30, 2003, from 8:30 a.m. to 4 p.m.; and Thursday, July 31, 2003, from 8:30 a.m. to 12 p.m.

The meeting on July 29 will be held at the Adam's Mark Hotel, Fourth Street and Chestnut, St. Louis, MO 63102. The meeting on July 30 and 31 will be held at the Department of Veterans Affairs Regional Office, 400 South 18th Street, St. Louis, MO 63103-2271. Both meetings are open to the public.

The purpose of the Committee is to advise the Secretary of Veterans Affairs on the administration of education and training programs for veterans and servicepersons, reservists and dependents of veterans under Chapters 30, 32, 35, and 36, Title 38, and Chapter 1606 of Title 10, United States Code.

On July 29, the Committee will host a town hall-style meeting with the Association of Veterans Education Certifying Officials. On July 30, the meeting will begin with opening remarks and an overview by Dr. Steve Kime, Committee Chair. In addition, this session will include discussions on pending legislation, results of the means testing meeting with the Department of Education, feedback on the meeting with the Department of Defense Deputy Secretary for Reserve Affairs, and other Reserve issues. During the afternoon session, there will be a tour of the Regional Processing Office operations. On July 31, the Committee will review and summarize current and past issues addressed during this meeting.

Interested persons may file statements with the Committee, in written form, before the meeting or within 10 days after the meeting, by sending them to Mr. Stephen Dillard, Designated Federal Officer, Department of Veterans Affairs, Veterans Benefits Administration (225B), 810 Vermont Avenue, NW., Washington, DC. Oral statements will be heard at the Department of Veterans Affairs Regional Office, 400 South 18th Street, St. Louis, MO 63103-2271, on Thursday, July 31, 2003 at 10 a.m. Any member of the public wishing to attend the meeting should contact Mr. Stephen Dillard or Mr. Michael Yunker at (202) 273-7187.

Dated: June 20, 2003.
By Direction of the Secretary:
E. Philip Riggin,
Committee Management Officer.

[FR Doc. 03-16266 Filed 6-26-03; 8:45 am]

BILLING CODE 8320-01-M